DEPARTMENT OF TRANSPORTATION

Federal Aviation Administration

14 CFR Part 39

[Docket No. 99-NM-203-AD; Amendment 39-11655; AD 2000-07-01]

RIN 2120-AA64

Airworthiness Directives; Empresa Brasileira de Aeronautica, S.A. (EMBRAER), Model EMB-145 Series Airplanes

AGENCY: Federal Aviation Administration, DOT.

ACTION: Final rule.

SUMMARY: This amendment supersedes an existing airworthiness directive (AD), applicable to all Empresa Brasileira de Aeronautica, S.A. (EMBRAER), Model EMB-145 series airplanes, that currently requires repetitive emergency extension (free-fall) functional tests of the nose landing gear (NLG), and lubrication of all NLG hinge points, to ensure that the NLG extends and locks down properly; and corrective action, if necessary. This amendment also requires a terminating modification that includes replacement of the NLG door solenoid valve with an improved valve; replacement of the landing gear (LG) safety pins holder with an improved holder; and replacement of the NLG maneuvering actuator with an improved actuator. This amendment also limits the applicability of the existing AD. This amendment is prompted by issuance of mandatory continuing airworthiness information by a foreign civil airworthiness authority. The actions specified by this AD are intended to prevent failure of the NLG to extend and lock down properly, which could result in damage to the airplane structure, and consequent reduced controllability of the airplane upon landing.

DATES: Effective May 9, 2000.

The incorporation by reference of EMBRAER Service Bulletin 145-32-0036, dated February 1, 1999; and EMBRAER Service Bulletin 145-32-0037, dated February 12, 1999, as listed in the regulations, is approved by the Director of the Federal Register as of May 9, 2000.

The incorporation by reference of EMBRAER Alert Service Bulletin 145-32-A029, dated April 15, 1998, as listed in the regulations, was approved previously by the Director of the Federal Register as of July 9, 1998 (63 FR 34274, June 24, 1998).

ADDRESSES: The service information referenced in this AD may be obtained from Empresa Brasileira de Aeronautica S.A. (EMBRAER), P.O. Box 343—CEP 12.225, Sao Jose dos Campos—SP, Brazil. This information may be examined at the Federal Aviation Administration (FAA), Transport Airplane Directorate, Rules Docket, 1601 Lind Avenue, SW., Renton, Washington; or at the FAA, Small Airplane Directorate, Atlanta Aircraft Certification Office, One Crown Center, 1895 Phoenix Boulevard, suite 450, Atlanta, Georgia; or at the Office of the Federal Register 800 North Capitol Street, NW., suite 700, Washington, DC.

FOR FURTHER INFORMATION CONTACT: Rob Capezzuto, Aerospace Engineer, Systems and Flight Test Branch, ACE-116A, FAA, Small Airplane Directorate, Atlanta Aircraft Certification Office, One Crown Center, 1895 Phoenix Boulevard, suite 450, Atlanta, Georgia 30349; telephone (770) 703-6071; fax (770) 703-6097.

SUPPLEMENTARY INFORMATION: A proposal to amend part 39 of the Federal Aviation Regulations (14 CFR part 39) by superseding AD 98-13-34, amendment 39-10625 (63 FR 34274, June 24, 1998), which is applicable to all Empresa Brasileira de Aeronautica, S.A. (EMBRAER), Model EMB-145 series airplanes, was published in the Federal Register on February 2, 2000 (65 FR 4897). The action proposed to continue to require repetitive emergency extension (free-fall) functional tests of the nose landing gear (NLG), and lubrication of all NLG hinge points, to ensure that the NLG extends and locks down properly; and corrective action, if necessary. The action also proposed to require a terminating modification that includes replacement of the NLG door solenoid valve with an improved valve; replacement of the landing gear (LG) safety pins holder with an improved holder; and replacement of the NLG maneuvering actuator with an improved actuator. Additionally, the action proposed to limit the applicability of the existing AD.

Comments

Interested persons have been afforded an opportunity to participate in the making of this amendment. No comments were submitted in response to the proposal or the FAA's determination of the cost to the public.

Conclusion

The FAA has determined that air safety and the public interest require the adoption of the rule as proposed.

Cost Impact

There are approximately 66 airplanes of U.S. registry that will be affected by this AD.

The actions that are currently required by AD 98-13-34, and continue to be required by this AD, will take approximately 4 work hours per airplane to accomplish, at an average labor rate of $60 per work hour. Based on these figures, the cost impact of the currently required actions on U.S. operators is estimated to be $15,840, or $240 per airplane, per inspection cycle.

The new replacements that are required in this AD action will take approximately 6 work hours (3 work hours per airplane for the solenoid/holder replacement) and 3 work hours per airplane for the actuator replacement, at an average labor rate of $60 per work hour. EMBRAER and Libherr Aerospace Linberg have previously committed to supplying the necessary parts free of charge. Based on these figures, the cost impact of the replacements required by this AD on U.S. operators is estimated to be $23,760, or $360 per airplane.

The cost impact figures discussed above are based on assumptions that no operator has yet accomplished any of the current or new requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10625 (63 FR 34274, June 24, 1998), and by adding a new airworthiness directive (AD), amendment 39-11655, to read as follows:

2000-07-01 Empresa Brasileira de Aeronautica S.A. (EMBRAER): Amendment 39-11655. Docket 99-NM-203-AD. Supersedes AD 98-13-34, Amendment 39-10625.

Applicability: All Model EMB-145 series airplanes, serial numbers 145004 through 145103 inclusive, 145105, and 145106; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance:

Required as indicated, unless accomplished previously.

To prevent failure of the nose landing gear (NLG) to extend and lock down properly, which could result in damage to the airplane structure, and consequent reduced controllability of the airplane upon landing, accomplish the following:

Restatement of Requirements of AD 98-13-34, Amendment 39-10625

Functional Test

(a) Within 50 flight hours after July 9, 1998 (the effective date of AD 98-13-34, amendment 39-10625), perform an emergency extension (free-fall) functional test of the NLG, to ensure that the mechanism extends and locks down properly, in accordance with EMBRAER Alert Service Bulletin 145-32-A029, dated April 15, 1998. Repeat the functional test and lubrication procedures thereafter at intervals not to exceed every “A” check, but no later than 400 flight cycles.

Note 2: The alert service bulletin references EMBRAER Aircraft Maintenance Manual (AMM), Chapter 32-34-00, as an additional source of service information for accomplishment of the emergency extension functional test.

(1) If the extension time of the landing gear is within 30 seconds, prior to further flight, lubricate all NLG hinge points in accordance with Figure 1 of the Accomplishment Instructions of the alert service bulletin.

(2) If the extension time of the landing gear exceeds 30 seconds, prior to further flight, accomplish the requirements of paragraphs (a)(2)(i) and (a)(2)(ii) of this AD.

(i) Lubricate all NLG hinge points in accordance with Figure 1 of the Accomplishment Instructions of the alert service bulletin. And

(ii) Perform a normal system functional test of the NLG for five cycles, and repeat the emergency extension functional test specified by paragraph (a) of this AD. If the extension and locking time still exceeds 30 seconds, prior to further flight, repair in accordance with a method approved by either the Manager, Atlanta Aircraft Certification Office (ACO), FAA, Small Airplane Directorate, or the Departmento de Aviacao Civil (DAC) (or its delegated agent).

Note 3: The alert service bulletin references EMBRAER AMM, Chapter 32-30-00, as an additional source of service information for accomplishment of the normal system functional test.

(3) If any malfunction other than that specified in paragraph (a)(2) of this AD is detected, prior to further flight, repair in accordance with a method approved by the Manager, Atlanta ACO, or the DAC (or its delegated agent).

New Requirements of This AD

Terminating Modification

(b) Within 2,000 flight hours after the effective date of this AD, accomplish paragraphs (b)(1) and (b)(2) of this AD. Accomplishment of paragraphs (b)(1) and (b)(2) of this AD constitutes terminating action for the requirements of paragraph (a) of this AD.

(1) Replace the nose landing gear door solenoid valve, part number (P/N) 2225-0100-001, with a new valve, P/N 2225-0100-003; and replace the landing gear (LG) safety pins holder, P/N 145-27571-001, with a new holder, P/N 145-37912-001; in accordance with EMBRAER Service Bulletin 145-32-0036, dated February 1, 1999.

(2) Replace the nose landing gear maneuvering actuator, P/N 1300B0000-01, with a new actuator, P/N 1300B0000-02, in accordance with EMBRAER Service Bulletin 145-32-0037, dated February 12, 1999.

Spares

(c) As of the effective date of this AD, no person shall install a nose landing gear door solenoid valve, P/N 2225-0100-001, a landing gear safety pins holder, P/N 145-27571-001, or a nose landing gear maneuvering actuator P/N 1300B0000-01, on any airplane.

Alternative Methods of Compliance

(d) An alternative method of compliance or adjustment of the compliance time that provides an acceptable level of safety may be used if approved by the Manager, Atlanta ACO. Operators shall submit their requests through an appropriate FAA Principal Maintenance Inspector, who may add comments and then send it to the Manager, Atlanta ACO.

Note 4: Information concerning the existence of approved alternative methods of compliance with this AD, if any, may be obtained from the Atlanta ACO.

Special Flight Permits

(e) Special flight permits may be issued in accordance with sections 21.197 and 21.199 of the Federal Aviation Regulations (14 CFR 21.197 and 21.199) to operate the airplane to a location where the requirements of this AD can be accomplished.

Incorporation by Reference

(f) Except as provided by paragraphs (a)(2)(ii) and (a)(3), the actions shall be done in accordance with EMBRAER Alert Service Bulletin 145-32-A029, dated April 15, 1998; EMBRAER Service Bulletin 145-32-0036, dated February 1, 1999; or EMBRAER Service Bulletin 145-32-0037, dated February 12, 1999; as applicable.

(1) The incorporation by reference of EMBRAER Service Bulletin 145-32-0036, dated February 1, 1999; and EMBRAER Service Bulletin 145-32-0037, dated February 12, 1999; is approved by the Director of the Federal Register in accordance with 5 U.S.C. 552(a) and 1 CFR part 51.

(2) The incorporation by reference of EMBRAER Alert Service Bulletin 145-32-A029, dated April 15, 1998, was approved previously by the Director of the Federal Register as of July 9, 1998 (63 FR 34274, June 24, 1998).

(3) Copies may be obtained from Empresa Brasileira de Aeronautica S.A. (EMBRAER), P.O. Box 343—CEP 12.225, Sao Jose dos Campos—SP, Brazil. Copies may be inspected at the FAA, Transport Airplane Directorate, 1601 Lind Avenue, SW., Renton, Washington; or at the FAA, Small Airplane Directorate, Atlanta Aircraft Certification Office, One Crown Center, 1895 Phoenix Boulevard, suite 450, Atlanta, Georgia; or at the Office of the Federal Register, 800 North Capitol Street, NW., suite 700, Washington, DC.

Note 5: The subject of this AD is addressed in Brazilian airworthiness directives 98-05-01, dated May 12, 1998, and 98-05-01R1, dated July 8, 1999.

(g) This amendment becomes effective on May 9, 2000.

Issued in Renton, Washington, on March 27, 2000.
Donald L. Riggin,
Acting Manager, Transport Airplane Directorate, Aircraft Certification Service.

[FR Doc. 00-8018 Filed 4-3-00; 8:45 am]

BILLING CODE 4910-13-P